DEPARTMENT OF THE TREASURY

Comptroller of the Currency

12 CFR Part 5

Rules, Policies, and Procedures for Corporate Activities

CFR Correction

In Title 12 of the Code of Federal Regulations, Parts 1 to 199, revised as of January 1, 2014, on page 289, in § 5.13, in paragraph (f), the second sentence is moved to the end of the paragraph.

[FR Doc. 2014-14614 Filed 6-19-14; 8:45 am]

BILLING CODE 1505-01-D